NEIGHBORHOOD REINVESTMENT CORPORATION

Sunshine Act Meetings; Annual Board of Directors Meeting

TIME AND DATE: 2:00 p.m., Thursday, June 18, 2020.

PLACE: Via Conference Call.

STATUS: Open (with the exception of Executive Session).

MATTERS TO BE CONSIDERED: The General Counsel of the Corporation has certified that in his opinion, one or more of the exemptions set forth in 5 U.S.C. 552 (b)(2) and (4) permit closure of the following portion(s) of this meeting:

• Executive Session

Agenda

I. CALL TO ORDER

II. Executive Session: Executive Compensation Review

III. Executive Session: Report from CEO

IV. Executive Session: Report of CFO

V. Action Item Approval of Minutes

VI. Action Item Board Elections

VII. Action Item Grants to Capital Corps

VIII. Action Item Revising the Fundraising Policy to Reflect the December 2019 Board Resolution

IX. Discussion Item Capital Corporations Master Investment Agreement Renewal

X. Discussion Item Annual Ethics Review

XI. Discussion Item Annual Review of Governance Operations Guide

XII. Management Program Background and Updates

XIII. Adjournment

CONTACT PERSON FOR MORE INFORMATION: Lakeyia Thompson, Special Assistant, (202) 524-9940; Lthompson@nw.org.

Lakeyia Thompson,
Special Assistant.

[FR Doc. 2020-12611 Filed 6-8-20; 11:15 am]

BILLING CODE 7570-02-P